DEPARTMENT OF AGRICULTURE

Rural Utilities Service:

Louisa Generation L.L.C.; Notice of Finding of No Significant Impact

AGENCY: Rural Utilities Service, USDA.

ACTION: Notice of finding of no significant impact.

SUMMARY: Notice is hereby given that the Rural Utilities Service (RUS) has made a finding of no significant impact with respect to the construction and operation of a 490-megawatt electric generation plant in Louisa County, Virginia. RUS may provide financing for the project to Louisa Generation L.L.C. (a subsidiary of Old Dominion Electric Cooperative).

FOR FURTHER INFORMATION CONTACT: Bob Quigel, Engineering and Environmental Staff, RUS, Stop 1571, 1400 Independence Avenue, SW., Washington, DC 20250-1571, telephone (202) 720-0468, e-mail at bquigel@rus.usda.gov.

SUPPLEMENTARY INFORMATION: Old Dominion Electric Cooperative would be the agent to construct and operate the proposed plant. The preferred plant site is located just east of the Louisa/Albemarle County line at the intersection of Klockner Road and a CSX Railroad track. The site is approximately 90 acres. About 30 acres of the site would be developed for the plant. The plant would be made up of one 170 megawatt, GE Frame 7FA and four 80 megawatt, 7EA combustion turbines. The nominal output of the plant will be 490 megawatts. The primary fuel will be natural gas. Low sulfur fuel oil will be used as a back-up fuel.

The plant will be a peaking facility. It is anticipated that each of the five turbines would operate for no more than 1,800 hours per year. This would be during periods of high-energy demand in Virginia. Columbia Gas of Virginia will provide the natural gas for the plant by constructing the natural gas distribution pipeline in an existing gas pipeline right-of-way. No new electric transmission lines are required to be constructed for the proposed plant. A water pipeline and storage tank to be owned and constructed by the Louisa County Water Authority will be built to provide water to the generation plant. The length of the 12-inch water pipeline is approximately 2.5 miles and will require a permanent 20-foot easement for maintenance and operation. The water storage tank will have a capacity of 80,000 gallons and will be approximately 38 feet high and 20 feet in diameter. The tank will be constructed on an approximately ¼ acre parcel owned by Louisa County.

Copies of the finding of no significant impact are available from RUS at the address provided herein or from Mr. David Smith, Old Dominion Electric Cooperative, Insbrook Corporate Center, 4201 Dominion Boulevard, Glen Allen, Virginia 23060, telephone (804) 968-4045. Mr. Smith's E-mail address is dsmith@odec.com.

Dated: June 20, 2002.
Blaine D. Stockton,
Assistant Administrator, Electric Program, Rural Utilities Service.

[FR Doc. 02-16029 Filed 6-24-02; 8:45 am]

BILLING CODE 3410-15dash;P